DEPARTMENT OF COMMERCE

National Telecommunications and Information Administration

The Continued Transition of the Technical Coordination and Management of the Internet Domain Name and Addressing System: Midterm Review of the Joint Project Agreement

AGENCY: National Telecommunications and Information Administration, U.S. Department of Commerce

ACTION: Notice of Public Meeting

SUMMARY: The National Telecommunications and Information Administration (NTIA), U.S.Department of Commerce (Department), will hold a public meeting on February 28, 2008, to discuss the mid-term review of the Joint Project Agreement (JPA) between the Department and the Internet Corporation for Assigned Names and Numbers (ICANN).

DATES: The meeting will be held on February 28, 2008, from 9:00 a.m. to 12:00 p.m., Eastern Standard Time. Registration will start at 8:30 a.m.

ADDRESSES: The meeting will be held in the Auditorium at the U.S. Department of Commerce, 1401 Constitution Avenue, N.W., Washington, D.C. (Please enter at the main entrance on 14th Street). The handicapped accessible entrance is located at the 14th Street Aquarium Entrance.

FOR FURTHER INFORMATION CONTACT: For further information regarding the meeting, contact Ashley Heineman, Telecommunications Policy Specialist, at (202) 482-0298 or aheineman@ntia.doc.gov.

SUPPLEMENTARY INFORMATION: NTIA and ICANN entered into the JPA on September 29, 2006. (The text of the agreement is available on NTIA's website at http://www.ntia.doc.gov/ntiahome/domainname/agreements/jpa/ICANNJPA_09292006.doc.) The JPA provides for the Department to conduct a midterm review of progress achieved on each ICANN activity and responsibility contained in the JPA and envisions consultation with interested stakeholders. To that end, on November 2, 2007, NTIA published a Notice of Inquiry (NOI) seeking comments on ICANN's progress towards achieving the responsibilities identified in the JPA. 72 Fed. Reg. 62220 (Nov. 2, 2007). (The text of the NOI is available on NTIA's website at http://www.ntia.doc.gov/ntiahome/domainname/jpamidtermreview.html.)

On February 28, 2008, NTIA will hold a public meeting to discuss comments received in response to the NOI and other stakeholder views and to facilitate further public discussion on the progress ICANN has made in fulfilling its responsibilities contained in the JPA. The agenda for the public meeting will be posted on NTIA's website at least one week prior to the meeting. This meeting will be webcast. The agenda and webcast information will be available on NTIA's website at http://www.ntia.doc.gov/ntiahome/domainname/jpamidtermreview.html.

The meeting will be open to members of the public on a first-come, first-served basis. The meeting will be physically accessible to people with disabilities. Individuals requiring special services, such as sign language interpretation or other ancillary aids, should communicate their needs to Ashley Heineman at least two (2) days prior to the meeting.

Due to security requirements and to facilitate entry to the Department of Commerce building, anyone wishing to attend must contact Ashley Heineman at (202) 482-0298 or aheineman@ntia.doc.gov at least five (5) days prior to the meeting in order to provide the necessary clearance information. Attendees should arrive at least one-half hour prior to the start of the meeting and must present a valid passport or other photo identification up their arrival. Members of the public will have an opportunity to ask questions at the meeting.

Dated: January 18, 2008.
Kathy D. Smith,
Chief Counsel, National Telecommunications and Information Administration.

[FR Doc. E8-1180 Filed 1-23-08; 8:45 am]

BILLING CODE 3510-60-S